DEPARTMENT OF VETERANS AFFAIRS

Adjustments for Service-Connected Benefits

AGENCY: Department of Veterans Affairs.

ACTION: Notice.

SUMMARY: As required by the Veterans' Compensation Cost-of-Living Adjustment Act of 2003, Pub. L. 108-147, the Department of Veterans Affairs (VA) is hereby giving notice of adjustments in certain benefit rates. These adjustments affect the compensation and dependency and indemnity compensation (DIC) programs.

DATES: These adjustments are effective December 1, 2003, the date provided by Pub. L. 108-147.

FOR FURTHER INFORMATION CONTACT: Paul Trowbridge, Consultant, Compensation and Pension Service (212B), Veterans Benefits Administration, Department of Veterans Affairs, 810 Vermont Avenue, NW., Washington, DC 20420, (202) 273-7218.

SUPPLEMENTARY INFORMATION: Section 2 of Pub. L. 108-147 provides for an increase in each of the rates in sections 1114, 1115(1), 1162, 1311, 1313, and 1314 of title 38, United States Code. VA is required to increase these benefit rates by the same percentage as increases in the benefit amounts payable under title II of the Social Security Act. In computing increased rates in the cited title 38 sections, fractions of a dollar are rounded down to the nearest dollar. The increased rates are required to be published in the Federal Register.

The Social Security Administration has announced that there will be a 2.1 percent cost-of-living increase in Social Security benefits. Therefore, applying the same percentage, the following rates for VA compensation and DIC programs will be effective December 1, 2003:

Disability Compensation (38 U.S.C. 1114)
Disability evaluation (percent) | Monthly rate
10 | $106
20 | 205
30 | 316
40 | 454
50 | 646
60 | 817
70 | 1,029
80 | 1,195
90 | 1,344
100 | 2,239

(38 U.S.C. 1114(k) through (s)) | Monthly rate
38 U.S.C. 1114(k) | $82; $2,785; $82; $3,907
38 U.S.C. 1114(l) | $2,785
38 U.S.C. 1114(m) | $3,073
38 U.S.C. 1114(n) | $3,496
38 U.S.C. 1114(o) | $3,907
38 U.S.C. 1114(p) | $3,907
38 U.S.C. 1114(r) | $1,677; $2,497
38 U.S.C. 1114(s) | $2,506

Additional Compensation for Dependents (38 U.S.C. 1115(1)
38 U.S.C. 1115(1) | Monthly rate
38 U.S.C. 1115(1)(A) | $127
38 U.S.C. 1115(1)(B) | $219; $65
38 U.S.C. 1115(1)(C) | $86; $65
38 U.S.C. 1115(1)(D) | $103
38 U.S.C. 1115(1)(E) | $241
38 U.S.C. 1115(1)(F) | $202

Clothing Allowance (38 U.S.C. 1162)—$600 Per Year DIC to a Surviving Spouse (38 U.S.C. 1311)
Pay grade | Monthly rate
E-1 | $967
E-2 | 967
E-3 | 967
E-4 | 967
E-5 | 967
E-6 | 967
E-7 | 1,000
E-8 | 1,056
E-9¹ | 1,102
W-1 | 1,022
W-2 | 1,063
W-3 | 1,094
W-4 | 1,157
O-1 | 1,022
O-2 | 1,056
O-3 | 1,130
O-4 | 1,195
O-5 | 1,316
O-6 | 1,483
O-7 | 1,602
O-8 | 1,758
O-9 | 1,881
O-10² | 2,063
¹ If the veteran served as sergeant major of the Army, senior enlisted advisor of the Navy, chief master sergeant of the Air Force, sergeant major of the Marine Corps, or master chief petty officer of the Coast Guard, the surviving spouse's monthly rate is $1,189.
²If the veteran served as Chairman or Vice Chairman of the Joint Chiefs of Staff, Chief of Staff of the Army, Chief of Naval Operations, Chief of Staff of the Air Force, Commandant of the Marine Corps, or Commandant of the Coast Guard, the surviving spouse's monthly rate is $2,213.

DIC to a Surviving Spouse (38 U.S.C. 1311(a) Through (d)
38 U.S.C. 1311(a) through (d) | Monthly rate
38 U.S.C. 1311(a)(1) | $967
38 U.S.C. 1311(a)(2) | 208
38 U.S.C. 1311(b) | 241
38 U.S.C. 1311(c) | 241
38 U.S.C. 1311(d) | 115

DIC to Children (38 U.S.C. 1313)
38 U.S.C. 1313 | Monthly rate
38 U.S.C. 1313(a)(1) | $410
38 U.S.C. 1313(a)(2) | $590
38 U.S.C. 1313(a)(3) | $767
38 U.S.C. 1313(a)(4) | $767; $148

Supplemental DIC to Children (38 U.S.C. 1314)
38 U.S.C. 1314 | Monthly rate
38 U.S.C. 1314(a) | $241
38 U.S.C. 1314(b) | 410
38 U.S.C. 1314(c) | 205

Dated: February 20, 2004.
Anthony J. Principi,
Secretary of Veterans Affairs.

[FR Doc. 04-4484 Filed 2-27-04; 8:45 am]

BILLING CODE 8320-01-P